NATIONAL WOMEN'S BUSINESS COUNCIL

Data Collection Available for Public Comments and Recommendations

ACTION: Notice and request for comments.

SUMMARY: In accordance with the Paperwork Reduction Act of 1995, this notice announces the National Women's Business Council's intentions to request approval on a new information collection activity that is part of an ongoing research program.

DATES: Submit comments on or before January 1, 2013.

ADDRESSES: Send all comments regarding whether these information collections are necessary for the proper performance of the function of the agency, whether the burden estimates are accurate, and if there are ways to minimize the estimated burden and enhance the quality of the collections to Emily Bruno, Director of Research and Policy, National Women's Business Council, 409 3rd St SW., Suite 210, Washington, DC 20416.

FOR FURTHER INFORMATION CONTACT: Emily Bruno, Director of Research and Policy, National Women's Business Council, 202-205-6826 (Emily.Bruno@nwbc.gov) or Curtis B. Rich, Management Analyst, 202-205-7030, Curtis.Rich@sba.gov.

SUPPLEMENTARY INFORMATION: The National Women's Business Council (NWBC) is a non-partisan federal advisory council that serves as an independent source of advice and counsel to the President, Congress, and the Small Business Administration on economic issues of importance to women business owners. Members of the Council are prominent women business owners and leaders of women's business organizations.

One of the NWBC's priorities this year is to better understand young women entrepreneurs (ages 18-34) and how they are the same or different from young men entrepreneurs and older women entrepreneurs in their knowledge, attitudes, and behaviors. NWBC aims to understand the existing differences shown through current data as well as to explore differing expectations and growth potential through original research.

NWBC has acquired the services of a research firm to conduct quantitative data analysis of existing and available data to sketch the current state of young women entrepreneurs and identify any differences as compared to older women entrepreneurs and young men entrepreneurs. The firm would also conduct in-depth analysis of young women entrepreneurs in comparison to their counterparts through original qualitative research. The qualitative research would consist of 12 focus groups with approximately 10 individuals in each group. Questions in the focus groups will explore expectations, approaches, barriers and supports, and growth potential of young women entrepreneurs and their counterparts. The outcome of the research will be a body of evidence and set of recommendations to support the growth of businesses owned by young women entrepreneurs.

The focus groups would commence with a short questionnaire directed at a limited number of questions with defined responses. This questionnaire would be developed based on the common themes identified through previous research. The questionnaire would be given prior to the start of the focus groups and would be limited to completion within 10-15 minutes by the participants. The cover page of the questionnaire would include a limited set of demographics about the person (e.g. age, gender, entrepreneur field, year first became entrepreneur). All questionnaires will be coded with a random participant identification number, so that no names or identifiers will be included on the questionnaire. The focus groups will be no longer than 2 hours in length in total from start to finish, and no more than 10 participants will be involved in any of the focus groups. Focus groups would likely be gender- and age-specific and would be held using remote communication tools to manage time and cost.

Title: Focus Group Research: Young Women Entrepreneurs.

Description of Respondents: Young women entrepreneurs, young men entrepreneurs, and older women entrepreneurs, all representing a range of industries and sectors across the United States.

Type of respondent | Form name/activity | Number of respondents | Number of responses per respondent | Average burden per respondent (hours) | Total burden (hours)
Young Women Entrepreneurs | Focus Group | Approximately 80 | N/A | 2 | 160
Older Women Entrepreneurs | Focus Group | Approximately 20 | N/A | 2 | 40
Young Men Entrepreneurs | Focus Group | Approximately 20 | N/A | 2 | 40
Totals |  | Approximately 120 Respondents |  |  | Approximately 240 Hours

Dated: November 13, 2012.
Anie J. Borja,
Executive Director.

[FR Doc. 2012-28174 Filed 11-19-12; 8:45 am]

BILLING CODE 6820-AB-P